DEPARTMENT OF TRANSPORTATION

Surface Transportation Board

[STB Finance Docket No. 34187]

Central Railroad Company of Indiana—Joint Relocation Project Exemption—CSX Transportation, Inc.

Central Railroad Company of Indiana (CIND) filed a notice of exemption under 1180.2(d)(5) to participate in a joint relocation project with CSX Transportation, Inc. (CSXT). CIND, upon commencing trackage rights operations over CSXT, will abandon service over its 1-mile line between milepost 24.6 at Dearborn Tower and milepost 25.6 at West Lawrenceburg Interlocking (the Line). The transaction was scheduled to be consummated on or after March 29, 2002, the effective date of the exemption.

CIND owns and operates approximately 81 miles of rail line located between milepost 0.0 (Wood Street) at Cincinnati, OH, and milepost 81.0 at Mack, near Shelbyville, IN. CIND also has overhead trackage rights over the 76.2 miles of CSXT rail line located between milepost 81.0, at Shelbyville, and milepost 35.3, at Frankfort, IN. CIND also operates under trackage rights from CSXT pursuant to a February 9, 1996 agreement from the connection of CIND on CSXT's connection track T-1415(D)(1) at Ownership Point (O.P.) 1+53 at North Bend, OH, near CSXT's milepost BC 15 and CSXT's connection with CIND on CSXT's connection track T-2 at O.P. 1144+96.2 at Lawrenceburg, IN, near CSXT's milepost 22, a distance of approximately 7 miles.

CIND is abandoning the Line in order to convey the underlying real estate to the City of Lawrenceburg for a public development project. CSXT granted CIND trackage rights over a portion of CSXT's Indiana Subdivision, milepost BC 21.54 at East Lawrenceburg, IN, to milepost BC 23.3 at West Lawrenceburg, IN, a distance of about 1.7 miles. CIND will also construct turnouts within the current railroad right-of-way from the CSXT track at milepost BC 22.3 ± to serve Seagram's Distillery, and at milepost BC 22.9 ± to serve American Electric Power. The only other shipper served by CIND over the line being abandoned is Gibbco. Gibbco is located on property of American Electric Power (AEP). Gibbco will be able to load and unload on new track being constructed with the AEP facility in order to access CIND on its relocated track.

The proposed joint relocation project will not disrupt service to shippers.

CIND is cooperating with the City of Lawrenceburg in a public development project while continuing to serve its customers.

The Board will exercise jurisdiction over the abandonment or construction components of a relocation project, and require a separate approval or exemption, only where the removal of track affects service to shippers or the construction of new track involves expansion into new territory. See City of Detroit v. Canadian National Ry. Co., et al., 9 I.C.C.2d 1208 (1993), aff'd sub nom. Detroit/Wayne County Port Authority v. ICC, 59 F.3d 1314 (D.C. Cir. 1995). Line relocation projects may embrace trackage rights transactions such as the one involved here. See D.T. & I.R.—Trackage Rights, 363 I.C.C. 878 (1981). Under these standards, the incidental abandonment, construction, and trackage rights components require no separate approval or exemption when the relocation project, as here, will not disrupt service to shippers and thus qualifies for the class exemption at 49 CFR 1180.2(d)(5).

As a condition to this exemption, any employees affected by the trackage rights will be protected by the conditions imposed in Norfolk and Western Ry. Co.—Trackage Rights—BN, 354 I.C.C. 605 (1978), as modified in Mendocino Coast Ry., Inc.—Lease and Operate, 354 I.C.C. 732 (1978) and 360 I.C.C. 653 (1980).

If the notice contains false or misleading information, the exemption is void ab initio. Petitions to revoke the exemption under 49 U.S.C. 10502(d) may be filed at any time. The filing of a petition to revoke will not automatically stay the transaction.

An original and 10 copies of all pleadings, referring to STB Finance Docket No. 34187, must be filed with the Surface Transportation Board, Case Control Unit, 1925 K Street, NW., Washington, DC 20423-0001. In addition, one copy of each pleading must be served on Louis E. Gitomer, Ball Janik LLP, 1455 F Street, NW., Suite 225, Washington, DC 20005.

Boards decisions and notices are available on our website at www.stb.dot.gov.

Decided: April 15, 2002.
By the Board, David M. Konschnik, Director, Office of Proceedings.
Vernon A. Williams,
Secretary.

[FR Doc. 02-9641 Filed 4-18-02; 8:45 am]

BILLING CODE 4915-00-P